DEPARTMENT OF TRANSPORTATION

Federal Aviation Administration

Commercial Space Transportation Advisory Committee—Closed Session

AGENCY: Federal Aviation Administration (FAA), DOT.

ACTION: Notice of Commercial Space Transportation Advisory Committee Special Closed Session.

SUMMARY: Pursuant to section 10(a)(2) of the Federal Advisory Committee Act (Pub. L. 92-463, 5 U.S.C. app. 2), and 5 U.S.C. 552b(c), notice is hereby given of a special closed session of the Commercial Space Transportation Advisory Committee (COMSTAC). The special closed session will be an administrative session for the Committee members to review the provisions of the COMSTAC Charter; the Federal Advisory Committee Act (FACA); 41 CFR parts 101-6 and 102-3; and the Department of Transportation and FAA Orders concerning advisory committee management. The meeting will take place on Thursday, May 15, 2008, at FAA Headquarters Building, 800 Independence Avenue, SW., Washington, DC, in the Bessie Coleman Conference Center, from 4 p.m. until 5 p.m.

FOR FURTHER INFORMATION CONTACT: Brenda Parker (AST-100), Office of Commercial Space Transportation (AST), 800 Independence Avenue, SW., Room 331, Washington, DC 20591, telephone (202) 267-3674, e-mail brenda.parker@faa.dot.gov.

Issued in Washington, DC, April 1, 2008.
George C. Nield,
Acting Associate Administrator for Commercial Space Transportation.

[FR Doc. E8-8587 Filed 4-18-08; 8:45 am]

BILLING CODE 4910-13-P